DEPARTMENT OF HEALTH AND HUMAN SERVICES

Health Resources and Services Administration

National Advisory Council on the National Health Service Corps; Notice of a Meeting

AGENCY: Health Resources and Service Administration (HRSA), Department of Health and Human Services.

ACTION: Notice of meeting.

SUMMARY: In accordance with section 10(a)(2) of the Federal Advisory Committee Act (Pub. L. 92-463), notice is hereby given that a meeting is scheduled for National Advisory Council on the National Health Service Corps (NACNHSC). This meeting will be open to the public. Information about the NACNHSC and the agenda for this meeting can be obtained by accessing the following Web site: http://nhsc.hrsa.gov/corpsexperience/aboutus/nationaladvisorycouncil/meetingsummaries/index.html.

DATES: The meeting will be held on January 25, 2017, from 1:00 p.m.-4:00 p.m. EST.

ADDRESSES: This meeting will be held in a webinar and conference call format. Webinar information can be found on the Web site at: http://nhsc.hrsa.gov/corpsexperience/aboutus/nationaladvisorycouncil/meetingsummaries/index.html.

AGENDA: The NACNHSC will discuss the priorities of 2017. The NACNHSC final agenda will be available on the NACNHSC Web site 3 days in advance of the meeting.

FOR FURTHER INFORMATION CONTACT: Anyone requesting information regarding the NACNHSC should contact CAPT Shari Campbell, Designated Federal Official, Bureau of Health Workforce, Health Resources and Services Administration, in one of three ways: (1) Send a request to the following address: CAPT Shari Campbell, Designated Federal Official, Bureau of Health Workforce, HRSA, 5600 Fishers Lane, Room 14N108, Rockville, Maryland 20857; (2) call (301) 594-4251; or (3) send an email to scampbell@hrsa.gov.

SUPPLEMENTARY INFORMATION: The NACNHSC makes recommendations with respect to their responsibilities under Subpart II, Part D of Title III of the Public Health Service Act, as amended (National Health Service Corps and Health Professional Shortage Area Designations), and shall review and comment upon regulations promulgated by the Secretary under Subpart II.

Members of the public will have the opportunity to provide comments. Oral comments will be honored in the order they are requested and may be limited as time allows. Requests to make oral comments or provide written comments to the NACNHSC should be sent to Monica-Tia Bullock at MBullock@hrsa.gov by January 13, 2017. Individuals who need special assistance, such as sign language interpretation or other reasonable accommodations, should contact Monica-Tia Bullock at MBullocak@hrsa.gov at least 10 days prior to the meeting.

Jason E. Bennett,
Director, Division of the Executive Secretariat.

[FR Doc. 2016-32059 Filed 1-5-17; 8:45 am]

BILLING CODE 4165-15-P